DEPARTMENT OF DEFENSE

GENERAL SERVICES ADMINISTRATION

NATIONAL AERONAUTICS AND SPACE ADMINISTRATION

48 CFR Parts 2, 4, 5, and 13

[FAC 2005-21; FAR Case 2006-015; Item IV; Docket 2007-0001; Sequence 10]

RIN 9000-AK68

Federal Acquisition Regulation; FAR Case 2006-015, Federal Computer Network (FACNET) Architecture

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to delete references to FACNET.

DATES: Effective Date: December 7, 2007

FOR FURTHER INFORMATION CONTACT Mr. Ernest Woodson, Procurement Analyst, at (202) 501-3775 for clarification of content. For information pertaining to status or publication schedules, contact the FAR Secretariat at (202) 501-4755. Please cite FAC 2005-21, FAR case 2006-015.

SUPPLEMENTARY INFORMATION:

A. Background

The Councils published a proposed rule with request for comments in the Federal Register at 72 FR 4675 on February 1, 2007, to amend the FAR to remove FACNET references and provide the opportunity to recognize the evolution of alternative technologies and processes, etc., that Federal agencies are using and will use to satisfy their acquisition needs without removing the use of FACNET for Federal agencies that may use the system. The comment period closed April 2, 2007. No public comments were received on the rule. The Councils have agreed to adopt the proposed rule as final without change.

This is not a significant regulatory action and, therefore, was not subject to review under Section 6(b) of Executive Order 12866, Regulatory Planning and Review, dated September 30, 1993. This rule is not a major rule under 5 U.S.C. 804.

B. Regulatory Flexibility Act

DoD, GSA, and NASA certify that this final rule will not have a significant economic impact on a substantial number of small entities within the meaning of the Regulatory Flexibility Act, 5 U.S.C. 601, et seq., because the rule addresses the deletion of a term used to describe a system for the electronic data interchange of acquisition information between the private sector and the Federal Government without removing the use of the system. The rule does not present new requirements that impose a burden on contractors. No comments were received with regard to an impact on small business.

C. Paperwork Reduction Act

The Paperwork Reduction Act does not apply because the changes to the FAR do not impose information collection requirements that require the approval of the Office of Management and Budget under 44 U.S.C. 3501, et seq.

List of Subjects in 48 CFR Parts 2, 4, 5, and 13.

Government procurement.

Dated: October 31, 2007.
Al Matera,
Director, Office of Acquisition Policy.

Therefore, DoD, GSA, and NASA amend 48 CFR parts 2, 4, 5, and 13 as set forth below:

1. The authority citation for 48 CFR parts 2, 4, 5, and 13 continues to read as follows:

Authority: 40 U.S.C. 121(c); 10 U.S.C. chapter 137; and 42 U.S.C. 2473(c).

PART 2—DEFINITIONS OF WORDS AND TERMS

2.101 [Amended]

2. Amend section 2.101(b)(2) by removing the definition “Federal Acquisition Computer (Network FACNET) Architecture.”

PART 4—ADMINISTRATIVE MATTERS

3. Amend section 4.502 by revising paragraph (b)(2) to read as follows:

4.502 Policy.

* * * * *

(b) * * *

(2) Are implemented only after considering the full or partial use of existing infrastructures;

* * * * *

PART 5—PUBLICIZING CONTRACT ACTIONS

5.101 [Amended]

4. Amend section 5.101 by removing from paragraph (a)(2)(ii) the words “or Federal Acquisition Computer Network (FACNET)”.

5. Amend section 5.102 by revising paragraph (a)(3) to read as follows:

5.102 Availability of solicitations.

(a) * * *

(3) The contracting officer must ensure that solicitations transmitted using electronic commerce are forwarded to the GPE to satisfy the requirements of paragraph (a)(1) of this section.

* * * * *

6. Amend section 5.201 by revising paragraph (b)(2) to read as follows:

5.201 General.

* * * * *

(b) * * *

(2) When transmitting notices using electronic commerce, contracting officers must ensure the notice is forwarded to the GPE.

* * * * *

5.203 [Amended]

7. Amend section 5.203 in paragraph (b) by removing the words “via FACNET or for which” and adding the word “where” in its place.

PART 13—SIMPLIFIED ACQUISITION PROCEDURES

13.104 [Amended]

8. Amend section 13.104 by removing from paragraph (b) the words “using either FACNET or”.

9. Amend section 13.105 by revising paragraph (a) to read as follows:

13.105 Synopsis and posting requirements.

(a) The contracting officer must comply with the public display and synopsis requirements of 5.101 and 5.203 unless an exception in 5.202 applies.

* * * * *

10. Amend section 13.106-1 by revising paragraph (f) to read as follows:

13.106-1 Soliciting competition.

* * * * *

(f) Inquiries. An agency should respond to inquiries received through any medium (including electronic commerce) if doing so would not interfere with the efficient conduct of the acquisition.

13.106-2 [Amended]

11. Amend section 13.106-2 by removing from paragraph (b)(4) introductory text the words “FACNET or”.

13.106-3 [Amended]

12. Amend section 13.106-3 by removing from paragraph (c) the words “FACNET or”.

13.307 [Amended]

13. Amend section 13.307 by removing from paragraph (b)(1) “via FACNET,” and the comma after “electronically”.

[FR Doc. 07-5479 Filed 11-6-07; 8:45 am]

BILLING CODE 6820-EP-S